PEACE CORPS

Information Collection Request; Submission for OMB Review

AGENCY: Peace Corps.

ACTION: 60-Day notice and request for comments.

SUMMARY: The Peace Corps will submit the following information collection request to the Office of Management and Budget (OMB) for review and approval. The purpose of this notice is to allow 60 days for public comment in the Federal Register preceding submission to OMB. We are conducting this process in accordance with the Paperwork Reduction Act of 1995 (44 U.S.C. Chapter 35).

DATES: Submit comments on or before October 31, 2016.

ADDRESSES: Written comments should be addressed to Denora Miller, FOIA/Privacy Act Officer, Office of Management, Peace Corps, 1111 20th Street NW., Washington, DC 20526. Denora Miller may also be contacted by telephone at 202-692-1236 or email at pcfr@peacecorps.gov. Email comments must be made in text and not in attachments.

FOR FURTHER INFORMATION CONTACT: Denora Miller at Peace Corps address above.

SUPPLEMENTARY INFORMATION: The Peace Corps, under Section 10(a)(4) of the Peace Corps Act, authorizes the Director to accept gifts of voluntary service, money, or property, for use in furtherance of the purposes of the Peace Corps Act. The information collected on the donation form is essential to fulfilling this authority and acceptance of gifts.

OMB Control Number: 0420-XXXX.

Title: Donation Form.

Type of Review: New.

Affected public: Individuals or households.

Respondents' obligation to reply: Voluntary.

Burden to the public:

• Estimated number of respondents: 13,000.

• Frequency of response: One time.

• Estimated average burden per response: 10 minutes.

(d) Estimated total reporting burden: 2,167 hours.

General Description of Collection: The information pulled from the donation form is used internally and on a daily basis by the Peace Corps Office of Strategic Partnerships (OSP) to coordinate and oversee the development and implementation of partnerships to support the agency's three goals and enhance programs through every stage of the Volunteer life cycle, communication with prospective and current donors.

Request for Comment: Peace Corps invites comments on whether the proposed collection of information is necessary for proper performance of the functions of the Peace Corps Response, including whether the information will have practical use; the accuracy of the agency's estimate of the burden of the proposed collection of information, including the validity of the information to be collected; and, ways to minimize the burden of the collection of information on those who are to respond, including through the use of automated collection techniques, when appropriate, and other forms of information technology.

This notice issued in Washington, DC, on August 25, 2016.
Denora Miller,
FOIA/Privacy Act Officer, Management.

[FR Doc. 2016-20904 Filed 8-30-16; 8:45 am]

BILLING CODE 6051-01-P